PEACE CORPS

Agency Information collection Under Review by the Office of Management and Budget

AGENCY: Peace Corps.

ACTION: Notice of submission for OMB review, comment request.

SUMMARY: The Peace Corps has submitted an information collection to the Office of Management and Budget for review under the provisions of the Paperwork Reduction Act of 1995. The Peace Corps Volunteer Application form, OMB Number 0420-0005, is required under the Peace Corps Act for Volunteer recruitment purposes. This is a renewal of an active OMB Control Number. No comments were received in response to the Peace Corps' earlier Federal Register Notice (August 20, 2001, Volume 66, Number 161, p. 43598 for 60 days). The Peace Corps is not proposing any changes to the Peace Corps Volunteer Application form.

DATES: Submit comments on or before December 16, 2001.

ADDRESSES: Comments should be addressed to Ms. DeDe Dunevant, Office of Communications, Peace Corps, 1111 20th Street, NW., Room 8407, Washington, DC 20526. Ms. Dunevant can be contacted by telephone at 202-692-2205 or 800-424-8580 ext. 2205 or e-mail at ddunevant@peacecorps.gov. E-mail comments must be made in text and not in attachments.

FOR FURTHER INFORMATION CONTACT: Ms. DeDe Dunevant, Office of Communications, Peace Corps, 1111 20th Street, NW., Room 8407, Washington, DC 20526. Ms. Dunevant can be contacted by telephone at 202-692-2205 or 800-424-8580 ext. 2205 or e-mail at ddunevant@peacecorps.gov. E-mail comments must be made in text and not in attachments.

SUPPLEMENTARY INFORMATION: OMB Control Number: 0420-0005.

Title: Peace Corps Volunteer Application form.

Type of Review: Renewal, without change, of a previously approved collection that will expire December 31, 2001.

Respondents: Public.

Number of Respondents: None.

Need and Uses: This form is completed voluntarily by potential Peace Corps Volunteers in order to identify prospective applicants and process the applicants for Volunteer service. This information, which is gather by paper copy and electronic on-line version, is used to determine qualifications and potential for placement of applicants into Volunteer service, in fulfillment of the first goal of the Peace Corps as required by Congressional legislation and to enhance the Peace Corps Volunteer process.

This notice is issued in Washington, DC on November 9, 2001.
Judy Van Rest,
Associate Director for Management.

[FR Doc. 02-1546 Filed 1-22-02; 8:45 am]

BILLING CODE 6051-01-M